DEPARTMENT OF COMMERCE

National Oceanic and Atmospheric Administration

[RTID 0648-XA963]

International Affairs; U.S. Fishing Opportunities in the Northwest Atlantic Fisheries Organization Regulatory Area

AGENCY: National Marine Fisheries Service (NMFS), National Oceanic and Atmospheric Administration (NOAA), Commerce.

ACTION: Notification of U.S. fishing opportunities.

SUMMARY: We are announcing a fishing opportunity in the Northwest Atlantic Fisheries Organization Regulatory Area for shrimp in Division 3M. This action is necessary to make fishing privileges in the Regulatory Area available on an equitable basis to the extent possible. Fishing privileges for all other stocks for which the United States has access were previously allocated for 2020-2024. The intended effect of this notice is to alert U.S. fishing vessels of these fishing opportunities, to relay the available quotas available to U.S. participants, and to outline the process and requirements for vessels to apply to participate in this fishery.

DATES: Effective April 13, 2021 through December 31, 2024. Expressions of interest regarding fishing opportunities in the Northwest Atlantic Fisheries Organization (NAFO) will be accepted through April 13, 2021.

ADDRESSES: Expressions of interest regarding U.S. fishing opportunities in NAFO should be made in writing to Michael Pentony, U.S. Commissioner to NAFO, NMFS Greater Atlantic Regional Fisheries Office, by emailing Moira Kelly, Senior Fishery Program Specialist, at Moira.Kelly@noaa.gov.

Information relating to chartering vessels of another NAFO Contracting Party, transferring NAFO fishing opportunities to or from another NAFO Contracting Party, or general U.S. participation in NAFO is available from Patrick E. Moran, NMFS Office of International Affairs and Seafood Inspection, email: Pat.Moran@noaa.gov.

FOR FURTHER INFORMATION CONTACT: Moira Kelly, (978) 281-9218.

SUPPLEMENTARY INFORMATION:

General NAFO Background

The United States is a Contracting Party to NAFO. NAFO is an intergovernmental fisheries science and management body whose convention applies to most fishery resources in international waters of the Northwest Atlantic, except salmon, tunas/marlins, whales, and sedentary species such as shellfish.

As a Contracting Party within NAFO, the United States may be allocated catch quotas or effort allocations for certain species in specific areas within the NAFO Regulatory Area and may participate in fisheries for other species for which we have not received a specific quota. For most stocks for which the United States does not receive a specific allocation, an open allocation, known as the “Others” allocation under the Convention, is shared access between all NAFO Contracting Parties.

Additional information on NAFO can be found online at https://www.nafo.int/About-us. The NAFO Conservation and Enforcement Measures (CEM) that specify the fishery regulations, total allowable catches (TAC, quotas), and other information about the fishery program is available online at: https://www.nafo.int/Fisheries/Conservation. NAFO updates the CEM annually.

This notice announces the fishing opportunity available to U.S. vessels in NAFO regulatory waters specific to shrimp in Division 3M. This notice also outlines the application process and other requirements for U.S. vessels that wish to participate in the 3M shrimp fishery. Allocation of all other U.S. fishing opportunities were finalized in 2020, as described in the previous notice of fishing opportunities (85 FR 45198; July 27, 2020). Additional information is available in that notice and is not repeated here.

NAFO Fishing Opportunity Available to U.S. Fishing Vessels

Shrimp in Division 3M was made available for fishing at the 2019 Annual Meeting after a multi-year moratorium on fishing. (additional information is available online at https://www.nafo.int/Library/Commission/Meeting-Proceedings-of-the-Commission.) Prior to the moratorium, fishing was conducted using a days-at-sea system that allocated a certain number of days to Contracting Parties, rather than the now-standard quota (in weight) approach. NAFO was in discussions to shift the allocation scheme to a quota system when the moratorium became necessary to protect the stock. This effort was suspended because of the moratorium and is currently being renewed.

At the 2019 Annual Meeting of NAFO, the Commission decided to open the fishery using the previous days-at-sea program while pursuing a new quota-based management system. Due to the global COVID-19 pandemic, no progress was made in 2020 on this issue.

In our prior announcement, we explained that we would allocate 3M shrimp for only 2020 while the Commission considered a new management approach. Because no progress has been made to date, we are announcing the opportunity for this stock for 2021 through 2024, or until a new management scheme is adopted by the Commission. As such, applicants should note that the Commission might adopt a new allocation scheme before 2024, and that if it does, NOAA may terminate this potential permit before 2024 and publicly re-solicit interest through 2024. The holder of the rescinded permit would be invited to re-apply.

Authorization to fish for NAFO species will include permit-related conditions or restrictions, including but not limited to, minimum size requirements, bycatch-related measures, and catch limits. Any such conditions or restrictions will be designed to ensure the optimum utilization, long-term sustainability, and rational management and conservation of fishery resources in the NAFO Regulatory Area, consistent with the Convention on Future Multilateral Cooperation in the Northwest Atlantic Fisheries as well as the Amendment to the Convention on Future Multilateral Cooperation in the Northwest Atlantic Fisheries, which has been adopted by all NAFO Contracting Parties.

Applying for These Fishing Opportunities

Expressions of interest to fish for the 2021-2024 U.S. fishing opportunity for 3M shrimp, described above, will be considered from all U.S. fishing interests (e.g., vessel owners, processors, agents, others). Applicants are urged to carefully review and thoroughly address the application requirements and selection criteria as detailed below. Expressions of interest should be directed in writing to Regional Administrator Michael Pentony (see ADDRESSES).

Information Required in an Application Letter

Expressions of interest should include a detailed description of anticipated fishing operations for the full five years. Descriptions should include, at a minimum:

• Intended target species;

• Proposed dates of fishing operations;

• Vessel(s) to be used to harvest fish, including the name, registration, and home port of the intended harvesting vessel(s);

• The number of fishing personnel and their nationality involved in vessel operations;

• Intended landing port or ports; including for ports outside of the United States, whether or not the product will be shipped to the United States for processing;

• Processing facilities to be used;

• Target market for harvested fish; and,

• Evidence demonstrating the ability of the applicant to successfully prosecute fishing operations in the NAFO Regulatory Area, in accordance with NAFO management measures. This may include descriptions of previously successful NAFO or domestic fisheries participation.

Note that applicant U.S. vessels must possess or be eligible to receive a valid High Seas Fishing Compliance Act (HSFCA) permit. HSFCA permits are available from the NMFS Greater Atlantic Regional Fisheries Office. Information regarding other requirements for fishing in the NAFO Regulatory Area is detailed below and is also available from the NMFS Greater Atlantic Regional Fisheries Office (see ADDRESSES).

U.S. applicants wishing to harvest U.S. allocations using a vessel from another NAFO Contracting Party, or hoping to enter a chartering arrangement with a vessel from another NAFO Contracting Party, should see below for details on U.S. and NAFO requirements for such activities. If you have further questions regarding what information is required in an expression of interest, please contact Patrick Moran (see ADDRESSES).

Criteria Used in Identifying Successful Applicants

Applicants demonstrating the greatest benefits to the United States through their intended operations will be most successful. Such benefits may include:

• The use of U.S vessels and crew to harvest fish in the NAFO Regulatory Area;

• Detailed, positive impacts on U.S. employment as a result of the fishing, transport, or processing operations;

• Use of U.S. processing facilities;

• Transport, marketing, and sales of product within the United States;

• Other ancillary, demonstrable benefits to U.S. businesses as a result of the fishing operation; and

• Documentation of the physical characteristics and economics of the fishery for future use by the U.S. fishing industry.

Other factors we may consider include but are not limited to: A documented history of successful fishing operations in NAFO or other similar fisheries; the history of compliance by the vessel with the NAFO CEM or other domestic and international regulatory requirements, including potential disqualification of an applicant with repeated compliance issues; and, for those applicants without NAFO or other international fishery history, a description of demonstrated harvest, processing, marketing, and regulatory compliance within domestic fisheries.

To ensure equitable access by U.S. fishing interests, we may provide additional guidance or procedures, or we may issue regulations designed to allocate fishing interests to one or more U.S. applicants from among qualified applicants. These regulatory changes may result in NOAA altering or amending quota the NOAA grants an applicant through this process. NOAA will, however, notify any approved applicant of NOAA's proposed regulatory changes in advance of making the changes. After reviewing all requests for allocations submitted, we may also decide not to grant any allocations if it is determined that no requests adequately meet the criteria described in this notice.

Notification of Selected Vessels for NAFO Fisheries

We will provide written responses to all applicants notifying them of their application status and, as needed for successful applicants, allocation awards will be made as quickly as possible so that we may notify NAFO and take other necessary actions to facilitate operations in the regulatory area by U.S. fishing interests. Successful applicants will receive additional information from us on permit conditions and applicable regulations before starting fishing operations.

Mid-Term Allocation Adjustments

In the event that an approved U.S. entity does not, is not able to, or is not expected to fish an allocation, or part thereof, awarded to them, NMFS may reallocate to other approved U.S. entities. If requested, approved U.S. entities must provide updated fishing plans and/or schedules. A U.S. entity may not consolidate or transfer allocations without prior approval from NMFS. In the event that other approved U.S. entities are unable to fish additional allocation, NMFS may solicit further interest by notice in the Federal Register.

Chartering a Vessel To Fish Available U.S. Allocations

For 3M shrimp, the United States may enter into a chartering arrangement with a vessel from any other NAFO Contracting Party. Additionally, any U.S. vessel or fishing operation may enter into a chartering arrangement with any other vessel or business from a NAFO Contracting Party. The United States and the other Contracting Party involved in a chartering arrangement must agree to the charter, and the NAFO Executive Secretary must be advised of the chartering arrangement before the commencement of any charter fishing operations. Any U.S. vessel or fishing operation interested in making use of the chartering provisions of NAFO must provide at least the following information: The name and registration number of the U.S. vessel; a copy of the charter agreement; a detailed fishing plan; a written letter of consent from the applicable NAFO Contracting Party; the date from which the vessel is authorized to commence fishing; and the duration of the charter (not to exceed six months).

Expressions of interest using another NAFO Contracting Party vessel under charter should be accompanied by a detailed description of anticipated benefits to the United States, as described above. Additional detail on chartering arrangements can be found in Article 26 of the CEM (https://www.nafo.int/Fisheries/Conservation).

Any vessel from another Contracting Party wishing to enter into a chartering arrangement with the United States must be in full current compliance with the requirements outlined in the NAFO Convention and CEM. These requirements include, but are not limited to, submission of the following reports to the NAFO Executive Secretary:

• Notification that the vessel is authorized by its flag state to fish within the NAFO Regulatory Area during the applicable fishing year;

• Provisional monthly catch reports for all vessels of that NAFO Contracting Party operating in the NAFO Regulatory Area;

• Daily catch reports for each day fished by the subject vessel within the Regulatory Area;

• Observer reports within 30 days following the completion of a fishing trip; and

• An annual statement of actions taken by its flag state to comply with the NAFO Convention.

The United States may also consider the vessel's previous compliance with NAFO bycatch, reporting, and other provisions, as outlined in the NAFO CEM, before authorizing the chartering arrangement.

Fishing in the NAFO Regulatory Area

U.S. applicant vessels must be in possession of, or obtain, a valid HSFCA permit, which is available from the NMFS Greater Atlantic Regional Fisheries Office. All permitted vessels must comply with any conditions of this permit and all applicable provisions of the Convention on Future Multilateral Cooperation in the Northwest Atlantic Fisheries and the CEM. We reserve the right to impose additional permit conditions that ensure compliance with the NAFO Convention and the CEM, the Magnuson-Stevens Fishery Conservation and Management Act, and any other applicable law.

Further details regarding U.S. and NAFO requirements are available from the NMFS Greater Atlantic Regional Fisheries Office, and can be found in the NAFO CEM on the internet (https://www.nafo.int/Fisheries/Conservation).

Dated: March 24, 2021.
Jennifer M. Wallace,
Acting Director, Office of Sustainable Fisheries, National Marine Fisheries Service.

[FR Doc. 2021-06410 Filed 3-26-21; 8:45 am]

BILLING CODE 3510-22-P